DEPARTMENT OF LABOR

Employment and Training Administration

[TA-W-58,984]

Independent Steel Castings Company, New Buffalo, MI; Notice of Revised Determination of Alternative Trade Adjustment Assistance on Remand

On July 10, 2007, the U.S. Court of International Trade (USCIT) remanded to the U.S. Department of Labor (Department) Former Employees of Independent Steel Castings Company, Inc. v. United States Department of Labor, Court No. 06-00338. In its order, the USCIT directed the Department to acquire additional information on criterion two of the Alternative Trade Adjustment Assistance (ATAA) program (whether the adversely affected workers in the petitioning workers' firm possess job skills that are not easily transferable to other employment).

The Department's determination regarding the subject workers' eligibility to apply for Trade Adjustment Assistance (TAA) and ineligibility to apply for Alternative Trade Adjustment Assistance (ATAA) was issued on June 16, 2006. The Department's Notice of determination was published in the Federal Register on July 14, 2006 (71 FR 40157). The determination stated that of the three criteria used to assess eligibility for ATAA —(1) Significant number of adversely affected workers age 50 or over; (2) whether workers possess skills that are easily transferable; and (3) whether competitive conditions within the workers' industry are adverse—workers at the subject firm had not satisfied the second criterion because they possessed skills that were easily transferable. The subject workers had been engaged in the production of investment castings (i.e. steel, aluminum and bronze castings). The subject firm closed May 2005.

The petitioner, the International Union, United Automobile, Aerospace and Agricultural Implement Workers of America (UAW), requested administrative reconsideration of the negative ATAA determination. The request alleged that the county in which the subject firm is located “has not seen any significant employment growth in the last four years” and has a high unemployment rate.

By a letter dated July 31, 2006, the Department denied the request for reconsideration, stating that the UAW had not presented evidence that the Department had erred in its interpretation of facts or of the law. The letter also outlined the Department's ATAA investigation methodology—Training and Employment Guidance Letter No. 2-03 (TEGL 2-03)—and stated that the UAW's allegations were insufficient to satisfy ATAA criterion two (whether workers possess skills that are easily transferable).

In the complaint, the Plaintiffs alleged that the separated workers did not possess skills that are easily transferable; that the Department “relied on conclusory assertions” provided by the subject firm “while ignoring evidence presented by the Union;” and that the Department “relied on unverified information” provided by the subject firm official.

While the USCIT upheld the Department's position that it was reasonable for the Department to rely on information provided by a knowledgeable subject firm official, the USCIT found that the Department's conclusion on ATAA criterion two was not supported by substantial evidence. Accordingly, the USCIT remanded the matter to the Department for further investigation and a redetermination of the subject workers' ATAA eligibility.

During the remand investigation, the Department contacted the Plaintiffs' counsel to obtain the position descriptions and lists of skill sets of each of the separated workers. The Department also attempted to contact the subject firm official who provided the Department information during the initial investigation to obtain more information regarding the workers' skills and the skills required to gain new employment in the New Buffalo, Michigan local commuting area. In addition, the Department surveyed companies in the New Buffalo, Michigan local commuting area to determine whether their jobs required the same skills as those which the subject workers possessed.

As a result of the remand investigation, the Department finds that workers at the subject firm do not possess skills that are easily transferable. Accordingly, the workers have satisfied criterion two. Further, the Department finds that at least five percent of the workforce at the subject firm is at least fifty years of age and that competitive conditions within the industry are adverse. Therefore, the Department has concluded that all three ATAA criteria have been met.

Conclusion

After careful review of the additional facts obtained on remand, I conclude that the requirements of section 246 of the Trade Act of 1974, as amended, have been met for workers at the subject firm. In accordance with the provisions of the Act, I make the following certification:

“All workers of Independent Steel Castings Company, New Buffalo, Michigan, who became totally or partially separated from employment on or after March 2, 2005 through June 16, 2008 are eligible to apply for adjustment assistance under section 223 of the Trade Act of 1974, and are also eligible to apply for alternative trade adjustment assistance under section 246 of the Trade Act of 1974.”

Signed in Washington, DC, this 19th day of July, 2007.
Elliott S. Kushner,
Certifying Officer, Division of Trade Adjustment Assistance.

[FR Doc. E7-14998 Filed 8-1-07; 8:45 am]

BILLING CODE 4510-FN-P